DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Trade Mission to Canada and Mexico—September 17-22, 2023. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission. Balance of company size and location may also be considered during the review process.

Referrals from a political party or partisan political group or any information, including on the application, containing references to political contributions or other partisan political activities will be excluded from the application and will not be considered during the selection process. The sender will be notified of these exclusions. The Department of Commerce will evaluate applications and inform applicants of selection decisions on a rolling basis until the maximum number of participants has been selected.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies as a “small business” under the Small Business Administration's (SBA) size standards (https://www.sba.gov/document/support-table-size-standards), which vary by North American Industry Classification System (NAICS) Code. The SBA Size Standards Tool (https://www.sba.gov/size-standards) can help you determine the qualifications that apply to your company.

Important Note About the Covid-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previously selected applicants with the option to opt-in to the new virtual program.

Mission List: (additional information about trade missions can be found at https://www.trade.gov/trade-missions).

Trade Mission to Canada and Mexico—September 17-22, 2023

Summary

The United States Department of Commerce, International Trade Administration is organizing a trade mission to Canada and Mexico from September 17-22, 2023, that will include the Business Opportunities in the Americas Conference in Washington, DC on September 17-22, 2023.

The United States, Canada, and Mexico share common interests in strengthening regional economic growth, prosperity and competitiveness, and understand that North American competitiveness underpins the future prosperity, security and sustainability of all three countries.

Trade mission participants will arrive in Washington, DC to attend the opening reception for the Business Opportunities in the Americas Conference on September 17, which is also open to U.S. companies not participating in the trade mission. The U.S. Department of Commerce's Business Opportunities in the Americas Conference will focus on regional and industry-specific sessions, and will gather experts on market entry strategies, logistics, procurement, trade financing and other important topics.

On Sunday, September 17, trade mission participants will participate in the Conference in one-on-one meetings (U.S. diplomats and/or industry specialists from 24 U.S. Embassies will be available) and a trade mission briefing in addition to a networking reception. On Monday, September 18, participants will engage in the main business conference that will include a plenary session in the morning, a networking lunch, workshops and one-one meetings with U.S. diplomats and/or industry specialists from 24 U.S. Embassies in the afternoon, and the main networking reception in the evening. On the last day of the Conference, Tuesday, September 19, participants will engage in workshops in the morning, a networking lunch, and one-one meetings throughout the day. Trade mission participants will travel on Wednesday, September 20 to engage in business-to-business (B2B) appointments on Thursday, September 21 with pre-screened potential buyers, agents, distributors or joint-venture partners, in the selected city/stop in Canada and/or Mexico.

The U.S. Commercial Service Canada and/or Mexico also will be offering to arrange B2B meetings through November 30, 2023 on a first-come, first-served basis in the various mission stops in Mexico and Canada for trade mission applicants that are waitlisted. U.S. exporters interested in business-to-business meetings or other services in these markets after November 30th should contact their local U.S. Export Assistance Center.

One-on-one meetings will be pre-scheduled with the available U.S. diplomats and/or industry specialists from 24 U.S. Embassies in the Western Hemisphere region, as well as key service providers and other trade related resources. U.S. Embassies participating in the event are from the following countries: Argentina, Barbados, Belize, Bolivia, Brazil, Canada, Chile, Colombia, Costa Rica, Dominican Republic, Ecuador, El Salvador, Guatemala, Guyana, Honduras, Jamaica, Mexico, Panama, Paraguay, Peru, Suriname, The Bahamas, Trinidad & Tobago, and Uruguay.

The mission is open to U.S. companies from industries with growing potential in Canada and Mexico. Best prospects sectors for U.S. companies in Canada and Mexico are: Aerospace and Defense; Agribusiness; Automotive; Construction; Cosmetics; Defense Equipment; Education and Training; Electricity Sector; Energy; Environmental Technologies; Financial Technologies (Fintech) Industry; Healthcare Products & Services; Information and Communications Technology (ICT); Medical Devices; Mining and Minerals; Oil and Gas; Packaging; Machinery Industry; Plastics and Resins; Renewable Energy; Safety and Security; Transportation Infrastructure; Equipment and Services; and Travel and Tourism.

Proposed Timetable

*Note: The final schedule and potential site visits will depend on the availability of host government and business officials, specific goals of mission participants, and ground transportation.

Sunday, September 17, 2023 | Washington, DC. Afternoon: Registration, One-on-One Meetings Markets Briefing. Evening: Networking Reception.
Monday, September 18, 2023 | Washington, DC. Morning: Registration, Business Conference, Networking Break. Afternoon: Networking Lunch, One-on-One Meetings, and Workshops.
Tuesday, September 19, 2023 | Washington, DC. Morning: Workshops and One-on-One Meetings. Afternoon: Networking Lunch and One-on-One Meetings.
B2B Meetings Options
Wednesday, September 20, 2023 | Travel Day for B2B Meetings.
Thursday, September 21, 2023 | B2B Meetings in (up to two cities/markets): Option (A) Toronto, Canada. Option (B) Montreal, Canada. Option (C) Ottawa, Canada. Option (D) Calgary, Canada. Option (E) Mexico City, Mexico. Option (F) Guadalajara, Mexico. Option (G) Monterrey, Mexico.
Friday, September 22, 2023 | Travel Day. Return to the U.S.

Participation Requirements

All parties interested in participating in the trade mission must submit an application package for consideration by the Department of Commerce. All applicants will be evaluated on their ability to meet certain conditions and best satisfy the selection criteria as outlined below. A minimum of thirty and maximum of fifty companies and/or trade associations will be selected to participate in the mission on a rolling basis. All selected participants will attend the business conference in Washington, DC and will have the opportunity to have business-to-business meetings in up-to two cities in Canada and/or Mexico.

The number of firms that may be selected for each stop are as follows: 10 companies for Toronto; 5 companies for Montreal; 10 companies for Ottawa and 4 companies for Calgary; 15 companies for Mexico City; 3 companies for Monterrey; and 3 companies for Guadalajara.

Fees and Expenses

After a firm or trade association has been selected to participate on the mission, a payment to the Department of Commerce in the form of a participation fee is required. The fees are as follow:

If only one stop is selected for B2B meetings, the participation fee will be $2,800 for a small or medium-sized enterprises (SME) [1] and $4,000 for large firms.

If two stops are selected for B2B meetings, the participation fee will be $3,800 for a small or medium-sized enterprises (SME) [1] and $5,000 for large firms.

The mission participation fee includes the Business Opportunities in the Americas Conference, registration fee of $650 per participant from each firm.

There will be a $300 fee for each additional firm representative (large firm or SME) that wishes to participate in B2B meetings in any of the stops selected.

If an applicant is selected to participate on a particular mission, a payment to the Department of Commerce in the amount of the designated participation fee is required. Upon notification of acceptance to participate, those selected have 5 business days to submit payment or the acceptance may be revoked. Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Timeframe for Recruitment and Applications

Mission recruitment will be conducted in an open and public manner, including publication in the Federal Register, posting on the Department of Commerce trade mission calendar (http://export.gov/trademissions) and other internet websites, press releases to general and trade media, direct mail, notices by industry trade associations and other multiplier groups, and publicity at industry meetings, symposia, conferences, and trade shows. Recruitment for the mission will begin immediately and conclude no later than July 28th, 2023. The Department of Commerce will evaluate applications and inform applicants of selection decisions on a rolling basis until the maximum number of participants has been selected. Applications received after July 28th, 2023, will be considered only if space and scheduling constraints permit.

Contacts

U.S. Trade Americas Team Contact Information

Diego Gattesco, Director/Trade Americas Team Leader—U.S. Commercial Service Wheeling, WV; Diego.Gattesco@trade.gov; Tel: 304-243-5493

CS Canada Contact Information

John Fleming, Deputy Senior Commercial Officer—U.S. Embassy Ottawa, Canada; John.Fleming@trade.gov Tel: (613) 724-0048

CS Mexico Contact Information

Kenneth Duckworth, Commercial Officer—U.S. Embassy Mexico City, Mexico; Kenneth.Duckworth@trade.gov Tel: (52) (55) 7980-9576

Gemal Brangman,
Director, ITA Events Management Task Force.

[FR Doc. 2023-08951 Filed 4-26-23; 8:45 am]

BILLING CODE 3510-DR-P